DEPARTMENT OF ENERGY

Federal Energy Regulatory Commission

[Docket No. RC11-5-000]

City of Holland, Michigan Board of Public Works; Notice of Filing

Take notice that on September 2, 2011, pursuant to section 39.2 of the Federal Energy Regulatory Commission's (Commission) Regulations ¹ and Rule 501.1.3.4 of the Rules of Procedure of the North American Electric Reliability Corporation (NERC) ² the City of Holland, Michigan Board of Public Works (Holland BPW) filed an appeal with the Commission of the August 12, 2011 decision of the NERC Board of Trustees Compliance Committee denying Holland BPW's appeal of the decision of ReliabilityFirst Corporation to register Holland BPW as a Transmission Owner and Transmission Operator on the NERC Compliance Registry.

¹ 18 CFR 39.2 (2010).

² Rules of Procedure of the North American Electric Reliability Corporation, rule 501.1.3.4 (effective April 12, 2011) (stating a decision of the NERC Board of Trustees Compliance Committee may be appealed to the applicable governmental authority within 21 days of the date of the decision.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 3, 2011.

Dated: September 7, 2011.
Kimberly D. Bose,
Secretary.

[FR Doc. 2011-23315 Filed 9-12-11; 8:45 am]

BILLING CODE 6717-01-P